DEPARTMENT OF ENERGY

Federal Energy Regulatory Commission

Combined Notice of Filings #1

Take notice that the Commission received the following electric rate filings:

Docket Numbers: ER18-1652-003; ER10-1595-012; ER10-1598-012 ER10-1616-012; ER10-1618-012; ER10-2960-010 ER15-356-011; ER15-357-011; ER18-1821-004 ER18-2418-002.

Applicants: AL Mesquite Marketing, LLC, Astoria Generating Company, L.P., Chief Conemaugh Power, LLC, Chief Keystone Power, LLC, Crete Energy Venture, LLC, Great River Hydro, LLC, Lincoln Generating Facility, LLC, New Covert Generating Company, LLC, Rolling Hills Generating, L.L.C., Walleye Power, LLC.

Description: Notice of Non-Material Change in Status of AL Mesquite Marketing, LLC, et al.

Filed Date: 2/26/19.

Accession Number: 20190226-5191.

Comments Due: 5 p.m. ET 3/19/19.

Docket Numbers: ER19-5-002.

Applicants: Commonwealth Edison Company, PJM Interconnection, L.L.C.

Description: Tariff Amendment: ComEd submits response to the Commission's 1/28/19 deficiency notice in ER19-5 to be effective 10/1/2018.

Filed Date: 2/27/19.

Accession Number: 20190227-5072.

Comments Due: 5 p.m. ET 3/20/19.

Docket Numbers: ER19-6-002.

Applicants: Delmarva Power & Light Company, PJM Interconnection, L.L.C.

Description: Tariff Amendment: Delmarva submits its response to the Commission's 1/28/19 Deficiency Letter to be effective 10/1/2018.

Filed Date: 2/27/19.

Accession Number: 20190227-5071.

Comments Due: 5 p.m. ET 3/20/19.

Docket Numbers: ER19-10-002.

Applicants: Potomac Electric Power Company, PJM Interconnection, L.L.C.

Description: Tariff Amendment: PEPCO submits response to the Commission's 1/28/19 deficiency notice in ER19-10 to be effective 10/1/2018.

Filed Date: 2/27/19.

Accession Number: 20190227-5074.

Comments Due: 5 p.m. ET 3/20/19.

Docket Numbers: ER19-14-002.

Applicants: Baltimore Gas and Electric Company, PJM Interconnection, L.L.C.

Description: Tariff Amendment: BGE submits response to the Commission's 1/28/2019 deficiency notice in ER19-14 to be effective 10/1/2018.

Filed Date: 2/27/19.

Accession Number: 20190227-5070.

Comments Due: 5 p.m. ET 3/20/19.

Docket Numbers: ER19-18-002.

Applicants: Atlantic City Electric Company, PJM Interconnection, L.L.C.

Description: Tariff Amendment: ACE submits its response to the Commission's 1/28/19 Deficiency Letter to be effective 10/1/2018.

Filed Date: 2/27/19.

Accession Number: 20190227-5064.

Comments Due: 5 p.m. ET 3/20/19.

Docket Numbers: ER19-605-002.

Applicants: Republic Transmission, LLC.

Description: Tariff Amendment: Republic Transmission, LLC Deficiency Filing ER19-605 to be effective 2/26/2019.

Filed Date: 2/26/19.

Accession Number: 20190226-5163.

Comments Due: 5 p.m. ET 3/19/19.

Docket Numbers: ER19-1129-000.

Applicants: Duquesne Light Company.

Description: Application for Authorization for Abandoned Plant Incentive Rate Treatment of Duquesne Light Company.

Filed Date: 2/26/19.

Accession Number: 20190226-5181.

Comments Due: 5 p.m. ET 3/19/19.

Docket Numbers: ER19-1130-000.

Applicants: Midcontinent Independent System Operator, Inc.

Description: § 205(d) Rate Filing: 2019-02-27_SA 3166 Ameren Illinois-Cardinal Point 1st Rev GIA (J456) to be effective 2/19/2019.

Filed Date: 2/27/19.

Accession Number: 20190227-5043.

Comments Due: 5 p.m. ET 3/20/19.

Docket Numbers: ER19-1131-000.

Applicants: Kentucky Utilities Company.

Description: Tariff Cancellation: Notice of Termination Departing Municipals to be effective 4/30/2019.

Filed Date: 2/27/19.

Accession Number: 20190227-5052.

Comments Due: 5 p.m. ET 3/20/19.

Docket Numbers: ER19-1132-000.

Applicants: NRG Cottonwood Tenant LLC.

Description: § 205(d) Rate Filing: Notice of Succession and Revisions to Reactive Service Rate Schedule to be effective 2/4/2019.

Filed Date: 2/27/19.

Accession Number: 20190227-5054.

Comments Due: 5 p.m. ET 3/20/19.

Docket Numbers: ER19-1133-000.

Applicants: PJM Interconnection, L.L.C.

Description: § 205(d) Rate Filing: Original ISA, SA No. 5286, Queue No. AC1-068 to be effective 1/28/2019.

Filed Date: 2/27/19.

Accession Number: 20190227-5056.

Comments Due: 5 p.m. ET 3/20/19.

Docket Numbers: ER19-1134-000.

Applicants: PJM Interconnection, L.L.C.

Description: § 205(d) Rate Filing: Original ISA, SA No. 5290; Queue No. AC1-069 to be effective 1/28/2019.

Filed Date: 2/27/19.

Accession Number: 20190227-5075.

Comments Due: 5 p.m. ET 3/20/19.

Docket Numbers: ER19-1135-000.

Applicants: Southwest Power Pool, Inc.

Description: Submission of Notice of Cancellation of Large Generator Interconnection Agreement of Southwest Power Pool, Inc.

Filed Date: 2/27/19.

Accession Number: 20190227-5119.

Comments Due: 5 p.m. ET 3/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2019.
Nathaniel J. Davis, Sr.,
Deputy Secretary.

[FR Doc. 2019-03888 Filed 3-4-19; 8:45 am]

BILLING CODE 6717-01-P